DEPARTMENT OF THE INTERIOR

Fish and Wildlife Service

Klamath Fishery Management Council Meeting

AGENCY: Fish and Wildlife Service, Interior.

ACTION: Notice of meeting.

SUMMARY: Pursuant to section 10(a)(2) of the Federal Advisory Committee Act (5 U.S.C. App. I), this notice announces a meeting of the Klamath Fishery Management Council, established under the authority of the Klamath River Basin Fishery Resources Restoration Act (16 U.S.C. 460ss et seq.). The Klamath Fishery Management Council makes recommendations to agencies that regulate harvest of anadromous fish in the Klamath River Basin. The objectives of this meeting are to hear technical reports (including the ocean stock projection for Klamath River fall chinook in 2002), review the 2001 fishery season, and discuss and plan management of the 2002 season. The meeting is open to the public.

DATES: The Klamath Fishery Management Council will meet from 8:30 a.m. to 5:00 p.m. on Thursday, February 28, 2002, and from 8:00 a.m. to 12:00 p.m. on Friday, March 1, 2002.

ADDRESSES: The meeting will be held at the Red Lion Hotel, 1929 Fourth Street, Eureka, CA.

FOR FURTHER INFORMATION CONTACT: Phil Detrich, Project Leader, U.S. Fish and Wildlife Service, 1829 South Oregon Street, Yreka, California 96097, telephone (530) 842-5763.

SUPPLEMENTARY INFORMATION: For background information on the Klamath Council, please refer to the notice of their initial meeting that appeared in the Federal Register on July 8, 1987 (52 FR 25639)

Dated: February 1, 2002.
John Engbring,
Acting Manager, California/Nevada Operations Office, Sacramento, California.

[FR Doc. 02-3608 Filed 2-13-02; 8:45 am]

BILLING CODE 4310-55-P